NUCLEAR REGULATORY COMMISSION

[Docket No. NRC-2013-0258]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number.

The NRC published a Federal Register notice with a 60-day comment period on this information collection on November 29, 2013

1. Type of submission, new, revision, or extension: Extension.

2. The title of the information collection: 10 CFR Part 4, “Nondiscrimination in Federally Assisted Commission Programs.”

3. Current OMB approval number: 3150-0053.

4. The form number if applicable: NRC Form 781.

5. How often the collection is required: Provisions for this collection are covered in § 4.331 of Title 10 of the Code of Federal Regulations (10 CFR) Compliance Reviews, which indicates that the NRC may conduct compliance reviews and Pre-Award reviews of recipients or use other similar procedures that will permit it to investigate and correct violations of the act and these regulations. The NRC may conduct these reviews even in absence of a complaint against a recipient. The reviews may be as comprehensive as necessary to determine whether a violation of these regulations has occurred.

6. Who will be required or asked to report: Recipients of Federal Financial Assistance provided by the NRC (including Educational Institutions, Other Nonprofit Organizations receiving Federal Assistance, and Agreement States).

7. An estimate of the number of annual responses: 800.

8. The estimated number of annual respondents: 200.

9. An estimate of the total number of hours needed annually to complete the requirement or request: 3,600 hours (3,000 hrs for reporting (5 hrs per respondent) and 600 hrs for recordkeeping (3 hrs per recordkeeper).

10. Abstract: The regulations under 10 CFR Part 4 implement the provisions of Title VI of the Civil Rights Act of 1964, Public Law 88-352; (78 Stat. 241; 42 U.S.C. 2000a note), Title IV of the Energy Reorganization Act of 1974, Public Law 93-438, (88 stat. 1233; 42 U.S.C. 5801 note), which relate to nondiscrimination with respect to race, color, national origin or sex in any program or activity receiving Federal financial assistance from NRC; Section 504 of the Rehabilitation Act of 1973, as amended, Public Law 93-112 (87 Stat. 355; 29 U.S.C. 701 note), Public Law 95-602 (92 Stat. 2955; 29 U.S.C. 701 note) which relates to nondiscrimination with respect to disability in any program or activity receiving Federal financial assistance; and the Age Discrimination Act of 1975, as amended, Public Law 94-135 (89 Stat. 713; 42 U.S.C. 3001 note), Public Law 95-478 (92 Stat. 1513; 42 U.S.C. 3001 note), which relates to nondiscrimination on the basis of age in any program or activity receiving Federal financial assistance.

The public may examine, and have copied for a fee, publicly-available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by April 30, 2014. Comments received after this date will be considered if it is practical to do so, but assurance of consideration cannot be given to comments received after this date.

Danielle Jones, Desk Officer, Office of Information and Regulatory Affairs (3150-0053), NEOB-10202, Office of Management and Budget, Washington, DC 20503.

Comments can also be emailed to Danielle_Y_Jones@omb.eop.gov or submitted by telephone at 202-395-1741.

The Acting NRC Clearance Officer is Kristen Benney, telephone: 301-415-6355.

Dated at Rockville, Maryland, this 25th day of March 2014.
For the Nuclear Regulatory Commission.
Kristen Benney,
Acting NRC Clearance Officer, Office of Information Services.

[FR Doc. 2014-07025 Filed 3-28-14; 8:45 am]

BILLING CODE 7590-01-P